DEPARTMENT OF HOMELAND SECURITY

Federal Emergency Management Agency

[Docket ID FEMA-2014-0001; OMB No. 1660—NEW]

Agency Information Collection Activities: Proposed Collection; Comment Request; Emergency Notification System (ENS)

Correction

In notice document 2014-01789 appearing on pages 4940 through 4941 in the issue of Thursday, January 30, 2014, make the following correction:

1. On page 4940, in the third column, in the “DATES” section, “March 3, 2014” should read “March 31, 2014”.

[FR Doc. C1-2014-01789 Filed 2-5-14; 8:45 am]

BILLING CODE 1505-01-D